DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before July 8, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on June 03, 2019.
Donald P. Burger,
Chief, General Approvals and Permits Branch.

Application No. | Applicant | Regulation(s) affected | Nature of the special permits thereof
SPECIAL PERMITS DATA—Granted
5022-M | DEPARTMENT OF DEFENSE (MILITARY SURFACE DEPLOYMENT & DISTRIBUTION COMMAND) | 174.84, 174.101(l), 174.112(a), 176.116(e), 176.138(b), 177.834(l)(1) | To modify the special permit to ensure safe testing of all size fuel tanks.
14756-M | UNIVATION TECHNOLOGIES, LLC | 173.242(c) | To modify the special permit to authorize the 5 year periodic pressure test to be performed pneumatically with nitrogen and to allow party status to the permit.
16461-M | CYLINDER SALES AND TESTING, LLC | 172.203(a), 172.301(c), 173.302a(b), 180.205 | To modify the special permit to remove the annual gain control accuracy test and replace it with a onetime check at manufacture.
20651-M | ATIEVA USA, INC | 172.101(j) | To modify the special permit to authorize additional packaging.
20703-N | PERMA-FIX ENVIRONMENTAL SERVICES, INC | 173.420 | To authorize the transportation in commerce of uranium hexafluoride in packaging not authorized in the HMR.
20795-N | JAGUAR INSTRUMENTS INC | 173.302a(a)(1), 173.304a(a)(1) | To authorize the manufacture, mark, sale, and use of non-DOT specification pressure vessels.
20801-M | WALMART INC | 172.315(a)(2) | To modify the special permit to remove the requirement that a copy of the special permit be presented to the air carrier before or at the time the shipment is tendered and the requirement that a copy of the special permit accompany each shipment.
20823-M | ARKEMA INC | 173.22 | To modify the special permit to authorize the transportation of 26 additional drums with potentially leaky valves.
20839-N | A123 SYSTEMS LLC | 172.101(j) | To authorize the transportation in commerce of lithium battery assemblies exceeding 35 kg aboard cargo-only aircraft.
20843-N | SPACEFLIGHT, INC | 173.185(a) | To authorize the transportation in commerce of low production lithium ion batteries contained in spacecraft by air.
20852-N | GENERAL DYNAMICS MISSION SYSTEMS, INC | 173.185(a)(1)(i) | To authorize the transportation in commerce of prototype lithium ion and lithium metal batteries contained in equipment by cargo aircraft.
20872-N | SAP SE | 172.101(j), 173.185(b)(5) | To authorize the transportation in commerce of lithium batteries and cells in excess of 35 kg by cargo-only aircraft.
20873-N | PROPACK INTERNATIONAL, INC | 172.101(j) | To authorize the transportation in commerce certain lithium batteries with a net mass greater than 35 kg aboard cargo-only aircraft.
20880-N | DEPARTMENT OF THE ARMY (MILITARY SURFACE DEPLOYMENT & DISTRIBUTION COMMAND) | 173.185(e) | To authorize the emergency transportation in commerce of prototype and low production lithium-ion batteries contained in equipment.
20884-N | NATIONAL AIR CARGO GROUP, INC | 172.101(j), 172.204(c)(3), 173.27(b)(2), 173.27(b)(3), 175.30(a)(1) | To authorize the transportation of explosives by cargo aircraft.
20891-N | ENVIRONMENTAL PROTECTION AGENCY | 49 CFR subchapter C | To authorize the transportation in commerce of non-radioactive hazardous materials to staging areas within 200 miles of the point of origin by persons conducting operations under the direction of and under alternative safety requirements imposed by the grantee to this special permit within the Nebraska and Iowa disaster areas.
SPECIAL PERMITS DATA—Denied
20684-M | LINDE GAS NORTH AMERICA LLC | 179.7, 179.300-15, 180.519(a) | To authorize domestic use of the tank cars.
20803-N | HYPERCOMP ENGINEERING, INC | 173.302a(a)(1) | To authorize the manufacture, mark, sale, and use of a non-DOT specification composite overwrapped pressure vessel containing hydrogen.
20804-N | HYPERCOMP ENGINEERING, INC | 173.302a(a)(1) | To authorize the manufacture, mark, sale, and use of non-DOT specification composite overwrapped pressure vessels containing oxygen.
SPECIAL PERMITS DATA—Withdrawn
16532-M | GENERAL ELECTRIC COMPANY | 173.185(f) | To authorize an increase in the watt hours of cells and batteries, to 300 and 10,800 respectively.
20474-M | SPACE EXPLORATION TECHNOLOGIES CORP | 105.30, 172.300, 172.400 | To modify the special permit to only require a DANGEROUS placard when transporting the recovered Dragon 2 capsule.
20628-N | STANLEY BLACK & DECKER, INC | 172.704, 172.800, 172.200 | To authorize the transportation in commerce of lithium batteries without being subject to shipping papers, training and emergency response information requirements.
20841-N | STERILMED, INC | 172.203(a), 172.302(c), 173.134(b)(12)(i) | To authorize the transportation in commerce of medical equipment in accordance with 49 CFR 173.134(b)(12)(i) when some medical equipment will ultimately be sent for disposal.
20860-N | REYNOLDS SYSTEMS, INC | 172.320, 173.54(a), 173.54(j), 173.56(b), 173.57, 173.58, 173.60 | To authorize the transportation in commerce of detonators and exploding foil deflagrating initiators that have not been approved in accordance with 173.56(b).
20886-N | Cuberg, Inc | 173.185(a) | To authorize the transportation in commerce of untested lithium cells aboard cargo-only aircraft.
20889-N | EoCell, Inc | 173.185(a) | To authorize the transportation in commerce of prototype lithium batteries aboard cargo-only aircraft.

[FR Doc. 2019-11970 Filed 6-6-19; 8:45 am]

BILLING CODE 4909-60-P